DEPARTMENT OF TRANSPORTATION

Federal Motor Carrier Safety Administration

49 CFR Parts 383 and 384

[Docket No. FMCSA-2005-21603]

RIN 2126-AA94

Commercial Driver's License Standards; School Bus Endorsement

Corrections

In rule document 05-19292 beginning on page 56589 in the issue of Wednesday, September 28, 2005, make the following corrections:

1. On page 56590 in the first column, under the heading Legal Basis for Rulemaking, in the second line, “(Pub. L. 9-570)” should read “(Pub. L. 99-570)”.

2. On the same page, in the second column, in the second full paragraph, in the fifth line, “(Pub. L. 10-59)” should read “(Pub. L. 109-59)”.

PART 383—[CORRECTED]

3. On page 56593, in the second column, under amendatory instruction 1., in the authority citation, in the fourth line, “Pub. L. 10-59” should read “Pub. L. 109-59”.

PART 384—[CORRECTED]

4. On the same page, in the same column, under amendatory instruction 3., in the authority citation, in the third line, “Pub. L. 10-59” should read “Pub. L. 109-59”.

[FR Doc. C5-19292 Filed 11-1-05; 8:45 am]

BILLING CODE 1505-01-D